DEPARTMENT OF HEALTH AND HUMAN SERVICES

Health Resources and Service Administration

Bright Futures Periodicity Schedule Updates

AGENCY: Health Resources and Service Administration (HRSA), Department of Health and Human Services (HHS).

ACTION: Notice.

SUMMARY: Effective December 21, 2017, HRSA updated the HRSA-supported guidelines for infants, children, and adolescents for purposes of health insurance coverage for preventive services, as set out in the Bright Futures Periodicity Schedule. This notice serves as an announcement of the decision to update these guidelines as listed below. Please see https://mchb.hrsa.gov/maternal-child-health-topics/child-health/bright-futures.html for additional information.

FOR FURTHER INFORMATION CONTACT: Bethany D. Miller, LCSW-C, M.Ed., HRSA/Maternal and Child Health Bureau by calling (301) 495-5156 or emailing BMiller@hrsa.gov.

SUPPLEMENTARY INFORMATION: The Bright Futures program has been funded by HRSA since 1990. A primary focus of this program is for the funding recipient to maintain and update the Bright Futures Guidelines for Health Supervision of Infants, Children and Adolescents, a set of materials and tools that provide theory-based and evidence-driven guidance for all preventive care screenings and well-child visits. One component of these tools is the Bright Futures Periodicity Schedule, a chart that outlines the recommended screenings, assessments, physical examinations, and procedures to be delivered during preventive checkups at each age milestone. The Bright Futures Periodicity Schedule has become the accepted schedule within the United States for preventive health services through the course of a child's development.

Section 2713 of the Public Health Service Act requires that non-grandfathered group health plans and health insurance issuers offering group or individual health insurance coverage provide coverage for certain preventive health services in four identified areas without cost sharing. Section 2713(a)(3) describes such services for infants, children, and adolescents as “evidence-informed preventive care and screenings provided for in the comprehensive guidelines supported by HRSA.” HHS, along with the Departments of Treasury and Labor, issued an Interim Final Rule (IFR) on July 19, 2010 (75 FR 41726-41760) that identified two specific charts as the comprehensive guidelines supported by HRSA for infants, children, and adolescents to be covered by insurance without cost sharing by non-grandfathered group health plans and health insurance issuers: (1) The Bright Futures Periodicity Schedule and (2) the Recommended Uniform Screening Panel (RUSP) of the Advisory Committee on Heritable Disorders in Newborns and Children. The IFR provided that future changes to these comprehensive guidelines are considered to be issued for purposes of Section 2713 on the date of acceptance by the HRSA Administrator or, if applicable, adoption by the Secretary.

On December 21, 2017, the HRSA Administrator accepted the proposed 2017 updates to the Bright Futures Periodicity Schedule. Therefore, all non-grandfathered group health plans and health insurance issuers offering group or individual health insurance coverage must cover the services and screenings listed on the updated Bright Futures Periodicity Schedule for plan years (in the individual market, policy years) beginning on or after December 21, 2018.

The updated 2017 Bright Futures Periodicity schedule can be accessed at the following link: https://mchb.hrsa.gov/maternal-child-health-topics/child-health/bright-futures.html.

Dated: February 27, 2018.
George Sigounas,
Administrator.

[FR Doc. 2018-04834 Filed 3-9-18; 8:45 am]

BILLING CODE 4165-15-P